DEPARTMENT OF AGRICULTURE

Forest Service

Madera County Resource Advisory Committee

AGENCY: Forest Service, USDA.

ACTION: Notice of resource advisory committee meeting.

SUMMARY: Pursuant to the authorities in the Federal Advisory Committee Act of 1972 (Pub. L. 92-463) and under the secure Rural Schools and Community Self-Determination Act of 2000 (Pub. L. 106-393) the Sierra National Forest's Resource Advisory Committee for Madera County will meet on Monday, November 15, 2004. The Madera Resource Advisory Committee will meet at the Spring Valley School, O'neals, CA 93644. The purpose of the meeting is: review FY 2004 RAC proposals.

DATES: The Madera Resource Advisory Committee meeting will be held Monday, November 15, 2004. The meeting will be held from 7 p.m. to 9 p.m.

ADDRESSES: The Madera County RAC meeting will be held at the Spring Valley School, 46655 Road 200, North Fork, CA 93645.

FOR FURTHER INFORMATION CONTACT: Dave Martin, U.S.D.A., Sierra National Forest, Bass Lake Ranger District, 57003 Road 225, North Fork, CA 93643 (559) 877-2218 ext. 3100; e-mail: dmartin05@fs.fed.us.

SUPPLEMENTARY INFORMATION: Agenda items to be covered include: (1) review of FY 2004 RAC proposals.

Dated: November 4, 2004.
Curt E. Palmer,
Acting District Ranger, Bass Lake Ranger District.

[FR Doc. 04-25026 Filed 11-9-04; 8:45 am]

BILLING CODE 3410-11-M